DEPARTMENT OF HEALTH AND HUMAN SERVICES

Centers for Medicare & Medicaid Services

[Document Identifier: CMS-10260]

Agency Information Collection Activities: Proposed Collection; Comment Request

AGENCY: Centers for Medicare & Medicaid Services, HHS.

ACTION: Notice; partial withdrawal.

SUMMARY: On Wednesday, October 5, 2022, the Centers for Medicare & Medicaid Services (CMS) published a notice document entitled, “Agency Information Collection Activities: Proposed Collection; Comment Request”. That notice invited public comments on two separate information collection requests, under Document Identifiers: CMS-10260 and CMS-10142. Through the publication of this document, we are withdrawing the portion of the notice requesting public comment on the information collection request titled, ” Medicare Advantage and Prescription Drug Program: Final Marketing Provisions.” Form number: CMS-10260 (OMB control number: 0938-1051).

DATES: The original comment period for the document that published on October 5, 2022, remains in effect and ends December 5, 2022.

SUPPLEMENTARY INFORMATION: In FR document, 2022-21657, published on October 5, 2022 (87 FR 60403), we are withdrawing item 1 “Medicare Advantage and Prescription Drug Program: Final Marketing Provisions in 42 CFR 422.111(a)(3) and 423.128(a)(3)” which begins on page 60404. The notice will be republished at a later date, thereby allowing the public to have a full 60-day comment period.

Dated: October 17, 2022.
William N. Parham, III,
Director, Paperwork Reduction Staff, Office of Strategic Operations and Regulatory Affairs.

[FR Doc. 2022-22844 Filed 10-20-22; 8:45 am]

BILLING CODE 4120-01-P